DEPARTMENT OF COMMERCE

International Trade Administration

Initiation of Antidumping and Countervailing Duty Administrative Reviews and Request for Revocation in Part

AGENCY: Import Administration, International Trade Administration, Commerce.

SUMMARY: The Department of Commerce (the Department) has received requests to conduct administrative reviews of various antidumping and countervailing duty orders and findings with December anniversary dates. In accordance with our regulations, we are initiating those administrative reviews. The Department also received a request to revoke one antidumping duty order in part.

DATES: Effective Date: February 2, 2007.

FOR FURTHER INFORMATION CONTACT: Sheila E. Forbes, Office of AD/CVD Operations, Office 4, Import Administration, International Trade Administration, U.S. Department of Commerce, 14th Street and Constitution Avenue, NW., Washington, DC 20230, telephone: (202) 482-4737.

SUPPLEMENTARY INFORMATION:

Background

The Department has received timely requests, in accordance with 19 CFR 351.213(b) (2004), for administrative reviews of various antidumping and countervailing duty orders and findings with December anniversary dates. The Department also received timely requests to revoke in part the antidumping duty order on Honey from Argentina with respect to one exporter.

Initiation of Reviews

In accordance with section 19 CFR 351.221(c)(1)(i), we are initiating administrative reviews of the following antidumping and countervailing duty orders and findings. We intend to issue the final results of these reviews not later than December 31, 2007.

| Period to be reviewed
Antidumping Duty Proceedings
Argentina: Honey, A-357-812 | 12/01/05-11/30/06
Asociacion de Cooperativas Argentinas
Agroin Las Piedras Ltda.
Compania Apicola Argentina S.A.
El Mana, S.A.
Mielar S.A.
Naiman S.A.
Nexco S.A.
Patagonik S.A.
Seabird Argentina S.A.
Seylinco S.A.
Ultramar Argentina SA
India: Carbazole Violet Pigment 23, A-533-838 | 12/1/05-11/30/06
Alpanil Industries
India: Certain Hot-Rolled Carbon Steel Flat Products, A-533-820 | 12/1/05-11/30/06
Essar Steel Ltd.
Ispat Industries Limited
JSW Steel Limited
Tata Steel Limited
India: Stainless Steel Wire Rod, A-533-808 | 12/1/05-11/30/06
Mukand, Ltd.
Sunflag Iron and Steel Co., Ltd.
The People's Republic of China: Carbazole Violet Pigment 23 ¹, A-570-892 | 12/1/05-11/30/06
Aesthetic Colortech (Shanghai) Company, Limited
Anhui Worldbest IE Company, Limited
Cidic Company, Limited
Ganguink Group, Pigment Division
Goldlink Industries Company, Limited
Hunan Sunlogistics International Company, Limited
Hygeia-Chem (Shanghai) Company, Limited
Nantong Haidi Chemical Company, Ltd.
Pudong Prime International Logistic Incorporated
Shanghai Rainbow Dyes Import & Export
Sinocol Corporation, Limited
Trust Chem Co., Ltd.
Yancheng Tiacheng Chemical Company, Limited
The People's Republic of China: Certain Cased Pencils ², A-570-827 | 12/1/05-11/30/06
China First Pencil Company, Ltd.
Shandong Rongxin Import & Export Co., Ltd.
Three Star Stationary Industry Co., Ltd.
The People's Republic of China: Hand Trucks and Parts Thereof ³, A-570-891 | 12/1/05-11/30/06
Qingdao Huatian Hand Truck Co., Ltd.
Qingdao Taifa Group Co., Ltd.
True Potential Co., Ltd.
Qingdao Future Tool, Inc.
Shandong Machinery I & E Group Corp.
Formost Plastics & Metalworks (Jiaxing) Co., Ltd.
Forecarry Corp.
Since Hardware (Guangzhou) Co., Ltd.
The People's Republic of China: Honey ⁴, A-570-863 | 12/1/05-11/30/06
Anhui Honghui Foodstuff (Group) Co., Ltd.
Apiarist Co.
Beijing World Trade Co., Ltd.
Cheng Du Wai Yuan Bee Products Co., Ltd.
Chiangmai Healthyproduct Co., Ltd
China Ocean Shipping Agency Beijing
Dongtai Peak Honey Industry Co., Ltd.
Eurasia Bee's Products Co., Ltd.
Hangzhou Golden Harvest Health Industry Co., Ltd.
Hangzhou Golden Dragon Group Corporation Ltd.
Hangzhou Xinsheng (or Xinyun) Shipping Agency Co., Ltd.
Inner Mongolia Altin Bee-Keeping
Inner Mongolia Youth Trade Development Co., Ltd.
Jiangsu Kanghong Natural Healthfoods Co., Ltd.
Jiangsu Light Industry Products Imp & Exp (Group) Corp.
Kunshan Xinrui Co., Ltd.
M&H Shipping (Shanghai) Corporation
Mgl Yung Sheng Honey Co., Ltd.
Qingdao Aolan Trade Co., Ltd.
Qinhuangdao Municipal Dafeng Industrial Co., Ltd.
Rich Shipping Company
Shanghai Bloom International Trading Co., Ltd.
Shanghai Taiside Trading Co., Ltd.
Shanghai Xinyun International Transportation Co., Ltd.
Sichuan-Dujiangyan Dubao Bee Industrial Co., Ltd.
Tianjin Eulia Honey Co., Ltd.
United Logistics Group Inc.
Wuhan Bee Healthy Co., Ltd.
Wuhan Shino-Food Trade Co., Ltd.
Wuhu Qinshi Tangye
Zhejiang Native Produce & Animal By-Products I/E Group Corp.
The People's Republic of China: Malleable Cast Iron Pipe Fittings ⁵, A-570-881 | 12/1/05-11/30/06
Mueller Comercial de Mexico, S. de R.L. de C.V.
Countervailing Duty Proceedings
Argentina: Honey ⁶, C-357-813 | 1/1/06-12/31/06
India: Carbazole Violet Pigment 23, C-533-839 | 1/1/05-12/31/05
Alpanil Industries
India: Certain Hot-Rolled Carbon Steel Flat Products, C-533-821 | 1/1/06-12/31/06
Essar Steel Ltd.
Ispat Industries Limited
JSW Steel Limited
Tata Steel Limited
¹ If one of the above named companies does not qualify for a separate rate, all other exporters of Carbazole Violet Pigment 23 from the People's Republic of China who have not qualified for a separate rate are deemed to be covered by this review as part of the single PRC entity of which the named exporters are a part.
² If one of the above named companies does not qualify for a separate rate, all other exporters of Certain Cased Pencils from the People's Republic of China who have not qualified for a separate rate are deemed to be covered by this review as part of the single PRC entity of which the named exporters are a part.
³ If one of the above named companies does not qualify for a separate rate, all other exporters of Hand Trucks and Parts Thereof from the People's Republic of China who have not qualified for a separate rate are deemed to be covered by this review as part of the single PRC entity of which the named exporters are a part.
⁴ If one of the above named companies does not qualify for a separate rate, all other exporters of Honey from the People's Republic of China who have not qualified for a separate rate are deemed to be covered by this review as part of the single PRC entity of which the named exporters are a part.
⁵ If one of the above named companies does not qualify for a separate rate, all other exporters of Malleable Cast Iron Pipe Fittings from the People's Republic of China who have not qualified for a separate rate are deemed to be covered by this review as part of the single PRC entity of which the named exporters are a part.
⁶ In accordance with section 351.213(b) of the regulations, the petitioners have requested an administrative review of this countervailing duty order. No individual exporters requested the review pursuant to section 351.213(b) of the regulations. Accordingly, the Department will be conducting the review of this order on an aggregate basis.

Suspension Agreements

None.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: January 24, 2007.
Stephen J. Claeys,
Deputy Assistant Secretary for Import Administration.

[FR Doc. E7-1742 Filed 2-1-07; 8:45 am]

BILLING CODE 3510-DS-P